DEPARTMENT OF THE INTERIOR

National Park Service

[NPS-WASO-NAGPRA-13951; PPWOCRADN0-PCU00RP14.R50000]

Notice of Inventory Completion: Michigan State Police, Mount Pleasant Post, Mount Pleasant, MI

AGENCY: National Park Service, Interior.

ACTION: Notice.

SUMMARY: The Michigan State Police, Mount Pleasant Post, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of the human remains should submit a written request to the Michigan State Police, Mount Pleasant Post. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Michigan State Police, Mount Pleasant Post, at the address in this notice by October 30, 2013.

ADDRESSES: Detective Sergeant Gary Green; Michigan State Police, Mount Pleasant Post, 3580 S. Isabella Road, Mount Pleasant, MI 48858; telephone (989) 773-5951; email GreenG1@Michigan.gov.

SUPPLEMENTARY INFORMATION: Notice is here given in accordance with the Native American Graves Protection and Repatriation Act (NAGPRA), 25 U.S.C. 3003, of the completion of an inventory of human remains under the control of the Michigan State Police; Mount Pleasant, MI. The human remains were removed from Montcalm County, MI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Michigan State Police professional staff in consultation with representatives of the Saginaw Chippewa Indian Tribe of Michigan.

History and Description of the Remains

On April 4, 1999, human remains representing, at minimum, one individual were removed from the northwest corner of Section 14, near Kohler Road and M-46 Highway, in Montcalm County, MI. The remains were located during an excavation at a located on private property. The remains were buried approximately four feet under the surface of the ground. No known individuals were identified. No associated funerary objects are present.

The Michigan State University Anthropology Lab determined that the remains are those of a “Pre-modern Native American” male between the age of 30 and 50 years old. The location the remains were found is near the current location of the Saginaw Chippewa Indian Tribe of Michigan. Based on geographic location and consultation, the remains are most likely the remains of a member of that tribe.

Determinations Made by the Michigan State Police, Mount Pleasant Post

Officials of the Michigan State Police, Mount Pleasant Post have determined that:

• Pursuant to 25 U.S.C. 3001(9), the human remains described in this notice represent the physical remains of one individual of Native American ancestry.

• Pursuant to 25 U.S.C. 3001(2), there is a relationship of shared group identity that can be reasonably traced between the Native American human remains and Saginaw Chippewa Indian Tribe of Michigan.

Additional Requestors and Disposition

Lineal descendants or representatives of any Indian tribe or Native Hawaiian organization not identified in this notice that wish to request transfer of control of these human remains should submit a written request with information in support of the request to Detective Sergeant Gary Green; Michigan State Police, Mount Pleasant Post, 3580 S. Isabella Road, Mount Pleasant, MI 48858; telephone (989) 773-5951; email GreenG1@Michigan.gov, by October 30, 2013. After that date, if no additional requestors have come forward, transfer of control of the human remains to the Saginaw Chippewa Indian Tribe of Michigan may proceed.

The Michigan State Police is responsible for notifying the Saginaw Chippewa Indian Tribe of Michigan that this notice has been published.

Dated: August 28, 2013.
Melanie O'Brien,
Acting Manager, National NAGPRA Program.

[FR Doc. 2013-23814 Filed 9-27-13; 8:45 am]

BILLING CODE 4312-50-P